DEPARTMENT OF ENERGY

Federal Energy Regulatory Commission

[Project No. 14303-000]

KC LLC; Notice of Preliminary Permit Application Accepted for Filing and Soliciting Comments, Motions To Intervene, and Competing Applications

On October 11, 2011, KC LLC filed an application for a preliminary permit, pursuant to section 4(f) of the Federal Power Act (FPA), proposing to study the feasibility of the Tinemaha Hydropower Project (project) to be located at Tinemaha dam and reservoir on the Owens River, three miles south of Big Pine in Inyo County, California. The sole purpose of a preliminary permit, if issued, is to grant the permit holder priority to file a license application during the permit term. A preliminary permit does not authorize the permit holder to perform any land-disturbing activities or otherwise enter upon lands or waters owned by others without the owners' express permission.

The proposed project would consist of (1) the existing Los Angeles Department of Water and Power Tinemaha reservoir earth fill dam; (2) the existing Tinemaha reservoir with a surface area of 2,098 acres and a storage capacity of 16,405 acre-feet at a normal surface elevation of 3,871 feet msl; (3) a 200-foot-long, 72-inch-diameter steel penstock; (4) a powerhouse with a 0.4 megawatt Kaplan generating unit, (5) a one-mile-long, 25 kilovolt primary transmission line; and (6) appurtenant facilities. The proposed project would have an estimated annual production of 1.5 gigawatt-hours.

Applicant Contact: Ms. Kelly W. Sackheim, Principal—KC LLC, 5096 Cocoa Palm Way, Fair Oaks, CA 95628; phone: (301) 401-5978.

FERC Contact: Joseph Hassell; phone: (202) 502-8079.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14303-000) in the docket number field to access the document. For assistance, contact FERC Online Support.

Dated: November 8, 2011.
Kimberly D. Bose,
Secretary

[FR Doc. 2011-29399 Filed 11-14-11; 8:45 am]

BILLING CODE 6717-01-P